DEPARTMENT OF TRANSPORTATION

Federal Aviation Administration

14 CFR Part 39

[Docket No. FAA-2019-0480; Product Identifier 2019-NM-041-AD]

RIN 2120-AA64

Airworthiness Directives; The Boeing Company Airplanes

AGENCY: Federal Aviation Administration (FAA), DOT.

ACTION: Notice of proposed rulemaking (NPRM).

SUMMARY: The FAA proposes to supersede Airworthiness Directive (AD) 2013-07-09, which applies to certain The Boeing Company Model 737-700, -700C, -800, and -900ER series airplanes, Model 747-400F series airplanes, and Model 767-200 and -300 series airplanes. AD 2013-07-09 requires a general visual inspection for affected serial numbers of the crew oxygen mask stowage box units, and replacement or re-identification as necessary. Since the FAA issued AD 2013-07-09, the agency has determined that the affected parts may be installed on airplanes outside the original applicability of AD 2013-07-09. This proposed AD would retain the requirements of AD 2013-07-09 and expand the applicability to include those other airplanes. The FAA is proposing this AD to address the unsafe condition on these products.

DATES: The FAA must receive comments on this proposed AD by August 9, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at http://www.regulations.gov by searching for and locating Docket No. FAA-2019-0480.

Examining the AD Docket

You may examine the AD docket on the internet at http://www.regulations.gov by searching for and locating Docket No. FAA-2019-0480; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: For more information about this AD, contact Susan L. Monroe, Aerospace Engineer, Cabin Safety and Environmental Systems Section, FAA, Seattle ACO Branch, 2200 South 216th St., Des Moines, WA 98198; phone and fax: 206-231-3570; email: susan.l.monroe@faa.gov.

SUPPLEMENTARY INFORMATION:

Comments Invited

The FAA invites you to send any written relevant data, views, or arguments about this proposal. Send your comments to an address listed under the ADDRESSES section. Include “Docket No. FAA-2019-0480; Product Identifier 2019-NM-041-AD” at the beginning of your comments. The agency specifically invites comments on the overall regulatory, economic, environmental, and energy aspects of this NPRM. The agency will consider all comments received by the closing date and may amend this NPRM because of those comments.

The FAA will post all comments we receive, without change, to http://www.regulations.gov, including any personal information you provide. The agency will also post a report summarizing each substantive verbal contact received about this proposed AD.

Discussion

The FAA issued AD 2013-07-09, Amendment 39-17413 (78 FR 22178, April 15, 2013) (“AD 2013-07-09”), for certain The Boeing Company Model 737-700, -700C, -800, and -900ER series airplanes, Model 747-400F series airplanes, and Model 767-200 and -300 series airplanes. AD 2013-07-09 requires a general visual inspection for affected serial numbers of the crew oxygen mask stowage box units, and replacement or re-identification as necessary. AD 2013-07-09 resulted from reports indicating that certain crew oxygen mask stowage box units were possibly delivered with a burr in the inlet fitting. The burr might break loose during test or operation, and might pose an ignition source or cause an inlet valve to jam. The FAA issued AD 2013-07-09 to address this possible ignition source, which could result in an oxygen-fed fire; or an inlet valve jam in a crew oxygen mask stowage box unit, which could result in restricted flow of oxygen.

Actions Since AD 2013-07-09 Was Issued

Since the FAA issued AD 2013-07-09, it has been determined that the affected parts may be installed as rotable spares on airplanes outside of the applicability of AD 2013-07-09, thereby subjecting those airplanes to the unsafe condition. Therefore, the applicability in this proposed AD has been expanded to include all The Boeing Company Model 737-700, -700C, -800, and -900ER series airplanes, Model 747-400F series airplanes, and Model 767-200 and -300 series airplanes.

Related Service Information Under 1 CFR Part 51

The FAA reviewed Boeing Alert Service Bulletin 737-35A1121, Revision 1, dated November 7, 2011; Boeing Alert Service Bulletin 747-35A2126, Revision 1, dated September 29, 2011; Boeing Alert Service Bulletin 767-35A0057, Revision 1, dated November 17, 2011; and Intertechnique Service Bulletin MXP1/4-35-175, Revision 2, dated May 10, 2011; which the Director of the Federal Register approved for incorporation by reference as of May 20, 2013 (78 FR 22178, April 15, 2013). This service information is reasonably available because the interested parties have access to it through their normal course of business or by the means identified in the ADDRESSES section.

FAA's Determination

The FAA is proposing this AD because the FAA evaluated all the relevant information and determined the unsafe condition described previously is likely to exist or develop in other products of these same type designs.

Proposed AD Requirements

This proposed AD would retain all requirements of AD 2013-07-09, and expand the applicability to include all The Boeing Company Model 737-700, -700C, -800, and -900ER series airplanes, Model 747-400F series airplanes, and Model 767-200 and -300 series airplanes. This proposed AD would require accomplishing the actions specified in the service information specified previously.

Costs of Compliance

The FAA estimates that this proposed AD affects 2,140 airplanes of U.S. registry. The agency estimates the following costs to comply with this proposed AD:

Estimated Costs
Action | Labor cost | Parts cost | Cost per product | Cost on U.S. operators
Inspection (retained action from AD 2013-07-09) (40 airplanes) | 1 work-hour × $85 per hour = $85 | $0 | $85 | $3,400
Inspection (new action) (2,100 airplanes) | 1 work-hour × $85 per hour = $85 | 0 | 85 | 178,500

The FAA has received no definitive data that would enable the agency to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-07-09, Amendment 39-17413 (78 FR 22178, April 15, 2013), and adding the following new AD:

The Boeing Company: Docket No. FAA-2019-0480; Product Identifier 2019-NM-041-AD.

(a) Comments Due Date

The FAA must receive comments on this AD action by August 9, 2019.

(b) Affected ADs

This AD replaces AD 2013-07-09, Amendment 39-17413 (78 FR 22178, April 15, 2013) (“AD 2013-07-09”).

(c) Applicability

This AD applies to all The Boeing Company airplanes, certificated in any category, as identified in paragraphs (c)(1), (c)(2), and (c)(3) of this AD.

(1) Model 737-700, -700C, -800, and -900ER series airplanes.

(2) Model 747-400F series airplanes.

(3) Model 767-200 and -300 series airplanes.

(d) Subject

Air Transport Association (ATA) of America Code 35, Oxygen.

(e) Unsafe Condition

This AD was prompted by reports indicating that certain crew oxygen mask stowage box units were possibly delivered with a burr in the inlet fitting. The burr might break loose during test or operation, and might pose an ignition source or cause an inlet valve to jam. We are issuing this AD to address this possible ignition source, which could result in an oxygen-fed fire; or an inlet valve jam in a crew oxygen mask stowage box unit, which could result in restricted flow of oxygen.

(f) Compliance

Comply with this AD within the compliance times specified, unless already done.

(g) Retained Inspection and Corrective Action, With No Changes

This paragraph restates the requirements of paragraph (g) of AD 2013-07-09 with no changes. For The Boeing Company Model 737 airplanes as identified in Boeing Alert Service Bulletin 737-35A1121, Revision 1, dated November 7, 2011; The Boeing Company Model 747 airplanes as identified in Boeing Alert Service Bulletin 747-35A2126, Revision 1, dated September 29, 2011; and The Boeing Company Model 767 airplanes as identified in Boeing Alert Service Bulletin 767-35A0057, Revision 1, dated November 17, 2011: Within 24 months after May 20, 2013 (the effective date of AD 2013-07-09); Do a general visual inspection to determine if the serial number of the crew oxygen mask stowage box unit is identified in the Appendix of Intertechnique Service Bulletin MXP1/4-35-175, Revision 2, dated May 10, 2011, in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable. A review of airplane maintenance records is acceptable in lieu of this inspection if the serial number of the crew oxygen mask stowage box unit can be conclusively determined from that review.

(1) If any crew oxygen mask stowage box unit has a serial number identified in table 1 of the Appendix of Intertechnique Service Bulletin MXP1/4-35-175, Revision 2, dated May 10, 2011: Before further flight, replace the crew oxygen mask stowage box unit with a new or serviceable unit, in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(2) If any crew oxygen mask stowage box unit has a serial number identified in table 2 of the Appendix of Intertechnique Service Bulletin MXP1/4-35-175, Revision 2, dated May 10, 2011: Before further flight, add the letter “I” to the end of the serial number (identified as “SER”) on the identification label, in accordance with the Accomplishment Instructions of Intertechnique Service Bulletin MXP1/4-35-175, Revision 2, dated May 10, 2011; and reinstall in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(3) If no crew oxygen mask stowage box unit has a serial number identified in the Appendix of Intertechnique Service Bulletin MXP1/4-35-175, Revision 2, dated May 10, 2011: Unless a records review was done to determine the serial number, before further flight, reinstall the crew oxygen mask stowage box unit, in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(h) Retained Parts Installation Prohibition, With No Changes

This paragraph restates the requirements of paragraph (h) of AD 2013-07-09 with no changes. For airplanes identified in paragraph (g) of this AD: As of May 20, 2013 (the effective date of AD 2013-07-09), no person may install a crew oxygen mask stowage box unit with a serial number listed in the Appendix of Intertechnique Service Bulletin MXP1/4-35-175, Revision 2, dated May 10, 2011, on any airplane.

(i) New Inspection and Corrective Action

For airplanes other than those identified in paragraph (g) of this AD: Within 24 months after the effective date of this AD, do a general visual inspection to determine if the serial number of the crew oxygen mask stowage box unit is identified in the Appendix of Intertechnique Service Bulletin MXP1/4-35-175, Revision 2, dated May 10, 2011, in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable. A review of airplane maintenance records is acceptable in lieu of this inspection if the serial number of the crew oxygen mask stowage box unit can be conclusively determined from that review.

(1) If any crew oxygen mask stowage box unit has a serial number identified in table 1 of the Appendix of Intertechnique Service Bulletin MXP1/4-35-175, Revision 2, dated May 10, 2011: Before further flight, replace the crew oxygen mask stowage box unit with a new or serviceable unit, in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(2) If any crew oxygen mask stowage box unit has a serial number identified in table 2 of the Appendix of Intertechnique Service Bulletin MXP1/4-35-175, Revision 2, dated May 10, 2011: Before further flight, add the letter “I” to the end of the serial number (identified as “SER”) on the identification label, in accordance with the Accomplishment Instructions of Intertechnique Service Bulletin MXP1/4-35-175, Revision 2, dated May 10, 2011; and reinstall in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(3) If no crew oxygen mask stowage box unit has a serial number identified in the Appendix of Intertechnique Service Bulletin MXP1/4-35-175, Revision 2, dated May 10, 2011: Unless a records review was done to determine the serial number, before further flight, reinstall the crew oxygen mask stowage box unit, in accordance with the Accomplishment Instructions of Boeing Alert Service Bulletin 737-35A1121, Revision 1, dated November 7, 2011; Boeing Alert Service Bulletin 747-35A2126, Revision 1, dated September 29, 2011; or Boeing Alert Service Bulletin 767-35A0057, Revision 1, dated November 17, 2011; as applicable.

(j) New Parts Installation Prohibition

For airplanes other than those identified in paragraph (g) of this AD: As of the effective date of this AD, no person may install a crew oxygen mask stowage box unit with a serial number listed in the Appendix of Intertechnique Service Bulletin MXP1/4-35-175, Revision 2, dated May 10, 2011, on any airplane.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, FAA, to make those findings. To be approved, the repair method, modification deviation, or alteration deviation must meet the certification basis of the airplane, and the approval must specifically refer to this AD.

(4) AMOCs approved previously for AD 2013-07-09 are approved as AMOCs for the corresponding provisions of this AD.

(l) Related Information

(1) For more information about this AD, contact Susan L. Monroe, Aerospace Engineer, Cabin Safety and Environmental Systems Section, FAA, Seattle ACO Branch, 2200 South 216th St., Des Moines, WA 98198; phone and fax: 206-231-3570; email: susan.l.monroe@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Transport Standards Branch, 2200 South 216th St., Des Moines, WA. For information on the availability of this material at the FAA, call 206-231-3195.

Issued in Des Moines, Washington, on June 12, 2019.
Michael Kaszycki,
Acting Director, System Oversight Division, Aircraft Certification Service.

[FR Doc. 2019-13336 Filed 6-24-19; 8:45 am]

BILLING CODE 4910-13-P